DEPARTMENT OF AGRICULTURE

Animal and Plant Health Inspection Service

[Docket No. 03-022-2]

Availability of a Draft Pest Risk Analysis for the Importation of Hass Avocados from Mexico

AGENCY: Animal and Plant Health Inspection Service, USDA.

ACTION: Notice of extension of comment period.

SUMMARY: We are extending the comment period for a draft pest risk analysis prepared by the Animal and Plant Health Inspection Service relative to a proposed rule currently under consideration that would allow the importation of Hass avocados from Mexico into the entire United States and during all months of the year. This action will allow interested persons additional time to prepare and submit comments.

DATES: We will consider all comments on the draft pest risk analysis that we receive on or before September 15, 2003.

ADDRESSES: You may submit comments by postal mail/commercial delivery or by e-mail. If you use postal mail/commercial delivery, please send four copies of your comment (an original and three copies) to: Docket No. 03-022-1, Regulatory Analysis and Development, PPD, APHIS, Station 3C71, 4700 River Road Unit 118, Riverdale, MD 20737-1238. Please state that your comment refers to Docket No. 03-022-1. If you use e-mail, address your comment to regulations@aphis.usda.gov. Your comment must be contained in the body of your message; do not send attached files. Please include your name and address in your message and “Docket No. 03-022-1” on the subject line.

You may read any comments that we receive on the draft pest risk analysis in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Ron A. Sequeira, Center for Plant Health Science and Technology, PPQ, APHIS, 1017 Main Campus Drive, Suite 2500, Raleigh, NC 27606-5202; (919) 513-2663.

SUPPLEMENTARY INFORMATION:

Background

On June 16, 2003, we published in the Federal Register (68 FR 35619, Docket No. 03-022-1) a notice advising the public that a draft pest risk analysis has been prepared by the Animal and Plant Health Inspection Service relative to a proposed rule currently under consideration that would allow the importation of Hass avocados from Mexico into the entire United States and during all months of the year. In that notice, we stated that we were making the draft pest risk analysis available to the public for review and comment.

Comments on the draft pest risk analysis were required to be received on or before August 15, 2003. We are extending the comment period until September 15, 2003. This action will allow interested persons additional time to prepare and submit comments.

Authority: 7 U.S.C. 450 and 7701-7772; 21 U.S.C. 136 and 136a; 7 CFR 2.22, 2.80, and 371.3.

Done in Washington, DC, this 11th day of August 2003.
Kevin Shea,
Acting Administrator, Animal and Plant Health Inspection Service.

[FR Doc. 03-20732 Filed 8-13-03; 8:45 am]

BILLING CODE 3410-34-P